SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995 requires Federal agencies to publish a notice in the Federal Register concerning each proposed collection of information before submission to OMB, and to allow 60 days for public comment in response to the notice. This notice complies with that requirement.

DATES: Submit comments on or before October 10, 2017.

ADDRESSES: Send all comments to Mary Frias, Loan Specialist, Office of Financial Assistance, Small Business Administration, 409 3rd Street, 8th Floor, Washington, DC 20416.

FOR FURTHER INFORMATION CONTACT: Mary Frias, Loan Specialist, 202-401-8234, mary.frias@sba.gov, or Curtis B. Rich, Management Analyst, 202-205-7030, curtis.rich@sba.gov.

SUPPLEMENTARY INFORMATION: For SBA Financial assistance programs, information regarding the assets and liabilities of certain owners, officers and guarantors of the small business applicant benefiting from such assistance is used when analyzing the applicant's repayment abilities or creditworthiness. The information is also collected from applicants and participants in SBA's 8a/BD program to determine whether they meet the economic disadvantage requirements of the program.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

(1) Title: Personal Financial Statement.

Description of Respondents: Applicants and Participants in SBA's 7(a) loan programs, 504 loan programs, Disasters, 8(a) BD programs and WOSB.

Form Number: SBA Forms 413 7(a), 413-504/SBG, 413 Disaster, 413 8(a) and 413 WOSB.

Total Estimated Annual Responses: 371,108.

Total Estimated Annual Hour Burden: 391,812.

Curtis B. Rich,
Management Analyst.

[FR Doc. 2017-16652 Filed 8-7-17; 8:45 am]

BILLING CODE 8025-01-P